NUCLEAR REGULATORY COMMISSION

[Docket No. 52-025; NRC-2008-0252]

Southern Nuclear Operating Company, Inc.; Vogtle Electric Generating Plant, Unit 3; Operation Under a Combined License

AGENCY: Nuclear Regulatory Commission.

ACTION: Finding that the acceptance criteria in the combined license are met.

SUMMARY: The U.S. Nuclear Regulatory Commission (NRC) found pursuant to its regulations that the acceptance criteria in the combined license for Vogtle Electric Generating Plant (VEGP), Unit 3 are met. Because of this action, operation of the facility is allowed in accordance with the terms and conditions of the license.

DATES: The finding that the acceptance criteria in the combined license are met became effective on August 3, 2022.

ADDRESSES: Please refer to Docket ID NRC-2008-0252 when contacting the NRC about the availability of information regarding this document. You may obtain publicly available information related to this document using any of the following methods:

• Federal Rulemaking Website: Go to https://www.regulations.gov and search for Docket ID NRC-2008-0252. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

FOR FURTHER INFORMATION CONTACT: Cayetano Santos, Office of Nuclear Reactor Regulation, U.S. Nuclear Regulatory Commission, Washington, DC 20555-0001; telephone: 301-415-7270; email: Cayetano.Santos@nrc.gov.

SUPPLEMENTARY INFORMATION: Under Section 2.106 of title 10 of the Code of Federal Regulations (10 CFR), “Notice of issuance,” the NRC is providing notice that it has found that the acceptance criteria in the combined license for VEGP, Unit 3 are met. Section 185b. (42 U.S.C. 2235(b)) of the Atomic Energy Act of 1954, as amended (AEA), and 10 CFR 52.97(b) require that the Commission identify within the combined license the inspections, tests, and analyses, including those applicable to emergency planning, that the licensee shall perform, and the acceptance criteria that, if met, are necessary and sufficient to provide reasonable assurance that the facility has been constructed and will be operated in conformity with the license, the provisions of the AEA, and the Commission's rules and regulations. In compliance with these requirements, the Commission included inspections, tests, analyses, and acceptance criteria (ITAAC) in Appendix C to VEGP, Unit 3 combined license No. NPF-91.

Section 185b. of the AEA also requires, in part, that following issuance of the combined license, the Commission shall ensure that the prescribed inspections, tests, and analyses are performed, and before operation of the facility, find that the prescribed acceptance criteria are met. The NRC codified the requirement to ensure completion of the inspections, tests, and analyses in 10 CFR 52.99(e) and codified the requirement regarding the finding that the acceptance criteria are met in 10 CFR 52.103(g).

The NRC staff has determined that the inspections, tests, and analyses have been successfully completed and found that all specified acceptance criteria in the VEGP, Unit 3 combined license No. NPF-91 are met. This finding was made on August 3, 2022, and was effective on August 3, 2022. The principal basis for the staff's 10 CFR 52.103(g) finding was the staff's review of the licensee's ITAAC notifications under 10 CFR 52.99(c) and the staff's inspection of ITAAC-related activities conducted by the licensee. The staff explained the basis for its finding in the document titled “10 CFR 52.103(g) Basis Document Vogtle Electric Generating Plant, Unit 3.” Because of the NRC's finding that the acceptance criteria are met, operation of the facility is allowed in accordance with the terms and conditions of the license.

I. Availability of Documents

The documents identified in the following table are available to interested persons through the ADAMS Public Documents collection and the NRC's PDR. The files are also available online at https://www.nrc.gov/reactors/new-reactors/col-holder/vog3.html.

Document | ADAMS accession No.
VEGP, Unit 3 Combined License No. NPF-91 | ML14100A106.
VEGP, Unit 3 Finding that the Acceptance Criteria in the Combined License Are Met | ML20290A282.
10 CFR 52.103(g) Basis Document Vogtle Electric Generating Plant, Unit 3 | ML20290A276.

Dated: August 3, 2022.
For the Nuclear Regulatory Commission.
Andrea D. Veil,
Director, Office of Nuclear Reactor Regulation.

[FR Doc. 2022-16928 Filed 8-5-22; 8:45 am]

BILLING CODE 7590-01-P